DEPARTMENT OF HEALTH AND HUMAN SERVICES

Office of the Secretary

Office of the Assistant Secretary for Preparedness and Response; Delegation of Authority

Notice is hereby given that I have delegated to the Assistant Secretary for Preparedness and Response (ASPR) the authorities vested in the Secretary of Health and Human Services under sections 1201-1232 of title 12 of the Public Health Service Act, parts A through C of title 12, (42 U.S.C. 300d through 300d-32), as amended, to administer grants and related authorities for trauma and emergency care.

This delegation rescinds and supersedes all previous delegations insofar as it pertains to the authority to carry out sections 1201 through 1232.

Exercise of this authority shall be in accordance with established policies, procedures, guidelines and regulations as prescribed by the Secretary.

I hereby affirm and ratify any actions taken by you or your subordinates that involved the exercise of the authorities delegated herein prior to the effective date of the delegation.

This delegation is effective immediately.

Dated: July 16, 2010.
Kathleen Sebelius,
Secretary, U.S. Department of Health and Human Services.

[FR Doc. 2010-18544 Filed 7-27-10; 8:45 am]

BILLING CODE 4150-37-P